DEPARTMENT OF THE INTERIOR

Bureau of Land Management

[LLNVS00560.L58530000.ES0000.241A; N-90819; 13-08807; MO# 4500050340; TAS: 14X5232]

Notice of Realty Action: Classification for Lease and Subsequent Conveyance for Recreation and Public Purposes of Public Land for a Fire Station (N-90819) in Clark County, NV

AGENCY: Bureau of Land Management, Interior.

ACTION: Notice of Realty Action.

SUMMARY: In accordance with Section 7 of the Taylor Grazing Act and Executive Order Number 6910, the Bureau of Land Management (BLM) has examined and found suitable for classification for lease and subsequent conveyance under the provisions of the Recreation and Public Purposes (R&PP) Act, as amended, approximately 2.5 acres of public land in the City of Las Vegas, Clark County, Nevada. The City of Las Vegas proposes to use the land for a fire station.

DATES: Interested parties may submit written comments regarding the proposed classification of the land for lease and subsequent conveyance of the land, and the environmental assessment, until August 19, 2013.

ADDRESSES: Send written comments to the BLM Las Vegas Field Manager, 4701 N. Torrey Pines Drive, Las Vegas, NV 89130, or email: rrury@blm.gov.

FOR FURTHER INFORMATION CONTACT: Rebecca L. Rury, 702-515-5087, or rrury@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The City of Las Vegas has filed an application to develop the following described land as a fire station with related facilities in northwest Las Vegas near Kyle Canyon Road and Puli Drive:

Mount Diablo Meridian

T. 19 S., R. 59 E.,

Sec. 2, SE¼SE¼SE¼SW¼.

The area described contains 2.5 acres, more or less, in Clark County.

The fire station would consist of a three-bay fire engine garage, living quarters and kitchen facilities. Related facilities include a parking lot, landscaping, lighting, utilities and off-site improvements such as curb, gutter, sidewalk and street lighting. Additional detailed information pertaining to this application, plan of development, and site plan is in case file N-90819, which is located in the BLM Las Vegas Field Office at the address in the ADDRESSES section. The BLM's environmental assessment of this proposed action can be viewed here, as well, and on the web at http://www.blm.gov/nv/st/en/fo/lvfo/blm_information/nepa.html.

The land is not required for any Federal purpose. The lease and subsequent conveyance are consistent with the BLM Las Vegas Resource Management Plan dated October 5, 1998, and would be in the public interest. The City of Las Vegas, a qualified applicant under the R&PP Act, has not applied for more than the 640-acre limitation for public purpose uses in a year, and has submitted a statement in compliance with the regulations at 43 CFR 2741.4(b).

The lease and subsequent conveyance of the public land shall be subject to valid existing rights. Subject to limitations prescribed by law and regulations, prior to patent issuance, a holder of any right-of-way within the lease area may be given the opportunity to amend the right-of-way for conversion to a new term, including perpetuity, if applicable.

The lease and subsequent conveyance, if issued, would be subject to the provisions of the R&PP Act and applicable regulations of the Secretary of the Interior, and will contain the following terms, conditions, and reservations to the United States:

1. A right-of-way thereon for ditches or canals constructed by the authority of the United States, Act of August 30, 1890 (43 U.S.C. 945);

2. All minerals shall be reserved to the United States, together with the right to prospect for, mine, and remove such deposits from the same under applicable law and such regulations as the Secretary of the Interior may prescribe;

3. Valid existing rights;

4. Right-of-Way CC-018234 for Charleston Park Road from the eastern boundary of Dixie National Forest to U.S. 95, granted to Nevada Department of Transportation, its successors and assigns, pursuant to the Act of November 9, 1921, (42 STAT 0216);

5. An appropriate indemnification clause protecting the United States from claims arising out of the lessee's/patentee's use, occupancy, or occupations on the leased/patented lands.

Upon publication of this notice in the Federal Register, the land described above is segregated from all other forms of appropriation under the public land laws, including the general mining laws, except for lease and subsequent conveyance under the R&PP Act, leasing under the mineral leasing laws, and disposals under the mineral material disposal laws.

Interested parties may submit written comments on the suitability of the land for a fire station. Comments on the classification are restricted to whether the land is physically suited for the proposal, whether the use will maximize the future use or uses of the land, whether the use is consistent with local planning and zoning, or if the use is consistent with State and Federal programs.

Interested parties may also submit written comments regarding the specific use proposed in the application and plan of development, and whether the BLM followed proper administrative procedures in reaching the decision to lease and convey under the R&PP Act.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Nevada State Director, who may sustain, vacate, or modify this realty action. In the absence of any adverse comments, the decision will become effective on September 3, 2013. The lands will not be available for lease and subsequent conveyance until after the decision becomes effective.

Authority: 43 CFR 2741.5(h)

Vanessa L. Hice,
Assistant Field Manager, Las Vegas Field Office.

[FR Doc. 2013-16007 Filed 7-2-13; 8:45 am]

BILLING CODE 4310-HC-P